Title 3—

The President

Proclamation 9132 of May 23, 2014

National Hurricane Preparedness Week, 2014

By the President of the United States of America

A Proclamation

Hurricanes can demolish towns, obliterate coastlines, and devastate families. We cannot eliminate the threats they pose, but with careful planning, we can better protect ourselves, our loved ones, and our communities. During National Hurricane Preparedness Week, America fortifies our homes and businesses so that we are ready long before these powerful storms make landfall.

My Administration works closely with State, local, and tribal governments up and down our coastlines, helping prepare for and respond to storms. We are building partnerships with nonprofits and in the private sector, including leading technology companies, which are identifying innovative ways their platforms could strengthen relief efforts and bolster communication during emergencies. As the climate continues to warm, hurricane intensity and rainfall are projected to increase, and we expect sea level rise to make storm surges more costly. That is why, last year, I issued an Executive Order directing the Federal Government to take coordinated action to prepare our Nation for the impacts of climate change. In the years ahead we will remain committed to increasing resilience, investing in scientific research, and cutting red tape so we can quickly send assistance where it is needed most.

It is also critical for individuals, families, and businesses to prepare well in advance. As this year's hurricane season approaches, Americans who live in at-risk areas should assemble emergency supply kits and create action plans—including where to go and routes to follow if State and local officials issue an evacuation order. Keep in mind that hurricanes and tropical storms are not just coastal events; they can produce damaging winds, catastrophic floods, and tornadoes hundreds of miles inland from the center of the storm.

Whether you live along a coastline, inland, or on one of America's many islands, it is essential to know if you are vulnerable to hurricanes and tropical storms. Contact your local emergency management officials for detailed information, and visit www.Ready.gov or www.Hurricanes.gov/Prepare to learn what to do before, during, and after a storm.

NOW, THEREFORE, I, BARACK OBAMA, President of the United States of America, by virtue of the authority vested in me by the Constitution and the laws of the United States, do hereby proclaim May 25 through May 31, 2014, as National Hurricane Preparedness Week. I call upon government agencies, private organizations, schools, media, and residents in the coastal areas of our Nation to share information about hurricane preparedness and response to help save lives and protect communities.

IN WITNESS WHEREOF, I have hereunto set my hand this twenty-third day of May, in the year of our Lord two thousand fourteen, and of the Independence of the United States of America the two hundred and thirty-eighth.

[FR Doc. 2014-12570

Filed 5-28-14; 8:45 am]

Billing code 3295-F4